DEPARTMENT OF ENERGY

Federal Energy Regulatory Commission

Combined Notice of Filings #1

Take notice that the Commission received the following exempt wholesale generator filings:

Docket Numbers: EG21-234-000.

Applicants: Highest Power Solar, LLC.

Description: Self-Certification of Exempt Wholesale Generator of Highest Power Solar, LLC.

Filed Date: 8/23/21.

Accession Number: 20210823-5244.

Comment Date: 5 p.m. ET 9/13/21.

Docket Numbers: EG21-235-000.

Applicants: Mark One Generating, LLC.

Description: Notice of Self-Certification of Exempt Wholesale Generator Status of Mark One Generating, LLC.

Filed Date: 8/25/21.

Accession Number: 20210825-5076.

Comment Date: 5 p.m. ET 9/15/21.

Take notice that the Commission received the following electric rate filings:

Docket Numbers: ER13-2387-009; ER15-190-018; ER18-1343-010.

Applicants: Carolina Solar Power, LLC, Duke Energy Renewable Services, LLC, Duke Energy Florida, Inc.

Description: Amendment to March 26, 2021 Notice of Non-Material Change in Status of Duke Energy Florida, LLC.

Filed Date: 6/29/21.

Accession Number: 20210629-5138.

Comment Date: 5 p.m. ET 9/15/21.

Docket Numbers: ER21-2426-000.

Applicants: CPRE 1 Lessee, LLC.

Description: Amendment to July 14, 2021 CPRE 1 Lessee, LLC tariff filing.

Filed Date: 8/24/21.

Accession Number: 20210824-5123.

Comment Date: 5 p.m. ET 9/14/21.

Docket Numbers: ER21-2757-000.

Applicants: PJM Interconnection, L.L.C.

Description: § 205(d) Rate Filing: Original WMPA 6160; Queue No. AG1-362 to be effective 7/27/2021.

Filed Date: 8/24/21.

Accession Number: 20210824-5088.

Comment Date: 5 p.m. ET 9/14/21.

Docket Numbers: ER21-2758-000.

Applicants: Southwestern Public Service Company.

Description: § 205(d) Rate Filing: SPS-GSEC-RBEC-Amend IA-Faria-724-0.1.0 to be effective 10/23/2021.

Filed Date: 8/24/21.

Accession Number: 20210824-5118.

Comment Date: 5 p.m. ET 9/14/21.

Docket Numbers: ER21-2759-000.

Applicants: Southwest Power Pool, Inc.

Description: § 205(d) Rate Filing: 3641R1 Haystack Wind Project, LLC GIA to be effective 8/17/2021.

Filed Date: 8/25/21.

Accession Number: 20210825-5033.

Comment Date: 5 p.m. ET 9/15/21.

Docket Numbers: ER21-2760-000.

Applicants: Mid-Atlantic Interstate Transmission, LLC, PJM Interconnection, L.L.C.

Description: § 205(d) Rate Filing: Mid-Atlantic Interstate Transmission, LLC submits tariff filing per 35.13(a)(2)(iii: MAIT submits four ECSAs, SA Nos. 6039, 6040, 6042 and 6048 to be effective 10/25/2021.

Filed Date: 8/25/21.

Accession Number: 20210825-5034.

Comment Date: 5 p.m. ET 9/15/21.

Docket Numbers: ER21-2761-000.

Applicants: American Transmission Systems, Incorporated, PJM Interconnection, L.L.C.

Description: § 205(d) Rate Filing: American Transmission Systems, Incorporated submits tariff filing per 35.13(a)(2)(iii: ATSI submits Six ECSAs, SA Nos. 6041 and 6043-6047 to be effective 10/25/2021.

Filed Date: 8/25/21.

Accession Number: 20210825-5035.

Comment Date: 5 p.m. ET 9/15/21.

Docket Numbers: ER21-2762-000.

Applicants: California Independent System Operator Corporation.

Description: § 205(d) Rate Filing: 2021-08-25 Certificate of Concurrence—Sol Catcher BESS LGIA to be effective 8/5/2021.

Filed Date: 8/25/21.

Accession Number: 20210825-5063.

Comment Date: 5 p.m. ET 9/15/21.

Docket Numbers: ER21-2763-000.

Applicants: Alabama Power Company.

Description: § 205(d) Rate Filing: Origis Holdings USA Subco (O'Hara I Storage) LGIA Filing to be effective 8/11/2021.

Filed Date: 8/25/21.

Accession Number: 20210825-5084.

Comment Date: 5 p.m. ET 9/15/21.

Docket Numbers: ER21-2764-000.

Applicants: Highest Power Solar, LLC.

Description: Baseline eTariff Filing: Highest Power Solar, LLC MBR Tariff to be effective 8/26/2021.

Filed Date: 8/25/21.

Accession Number: 20210825-5086.

Comment Date: 5 p.m. ET 9/15/21.

Docket Numbers: ER21-2765-000.

Applicants: Ameren Illinois Company.

Description: § 205(d) Rate Filing: Reimbursement Agreement, RS 154, Prairie Power East Quincy to be effective 10/25/2021.

Filed Date: 8/25/21.

Accession Number: 20210825-5091.

Comment Date: 5 p.m. ET 9/15/21.

Docket Numbers: ER21-2766-000.

Applicants: Central Line Solar, LLC.

Description: Baseline eTariff Filing: Central Line Solar, LLC MBR Tariff to be effective 10/1/2021.

Filed Date: 8/25/21.

Accession Number: 20210825-5095.

Comment Date: 5 p.m. ET 9/15/21.

Docket Numbers: ER21-2767-000.

Applicants: Skipjack Solar Center, LLC.

Description: Baseline eTariff Filing: Skipjack Solar Center, LLC MBR Tariff to be effective 10/1/2021.

Filed Date: 8/25/21.

Accession Number: 20210825-5096.

Comment Date: 5 p.m. ET 9/15/21.

Docket Numbers: ER21-2768-000.

Applicants: Nevada Power Company.

Description: Compliance filing: OATT Revisions to Attachment K Compliance to be effective 1/1/2022.

Filed Date: 8/25/21.

Accession Number: 20210825-5097.

Comment Date: 5 p.m. ET 9/15/21.

Docket Numbers: ER21-2769-000.

Applicants: PGR 2021 Lessee 7, LLC.

Description: Baseline eTariff Filing: PGR 2021 Lessee 7, LLC MBR Tariff to be effective 8/26/2021.

Filed Date: 8/25/21.

Accession Number: 20210825-5102.

Comment Date: 5 p.m. ET 9/15/21.

Docket Numbers: ER21-2770-000.

Applicants: PJM Interconnection, L.L.C.

Description: § 205(d) Rate Filing: Revision to Remove Preemption of Short Term Non-Firm Point-to-Point Transmission to be effective 10/25/2021.

Filed Date: 8/25/21.

Accession Number: 20210825-5120.

Comment Date: 5 p.m. ET 9/15/21.

Take notice that the Commission received the following qualifying facility filings:

Docket Numbers: QF21-1196-000.

Applicants: Bloom Energy Corporation.

Description: Form 556 of Bloom Energy Corporation [Billerica 1500kW].

Filed Date: 8/25/21.

Accession Number: 20210825-5101.

Comment Date: 5 p.m. ET 9/15/21.

Take notice that the Commission received the following electric reliability filings:

Docket Numbers: RR21-9-000.

Applicants: North American Electric Reliability Corporation.

Description: Request of North American Electric Reliability Corporation for Acceptance of 2022 Business Plans and Budgets of NERC and Regional Entities and for Approval of Proposed Assessments to Fund Budgets.

Filed Date: 8/24/21.

Accession Number: 20210824-5141.

Comment Date: 5 p.m. ET 9/14/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 25, 2021.
Kimberly D. Bose,
Secretary.

[FR Doc. 2021-18738 Filed 8-30-21; 8:45 am]

BILLING CODE 6717-01-P